DEPARTMENT OF ENERGY

Federal Energy Regulatory Commission

[Docket No. AD07-7-000]

Conference on Competition in Wholesale Power Markets; Supplemental Notice of Conference

February 9, 2007.

As announced in the Notice of Conference issued on January 8, 2007, the Federal Energy Regulatory Commission (Commission) will hold the first in a series of conferences on February 27, 2007, to examine the state of competition in wholesale power markets. The first conference will be held from 9 a.m. to 4 p.m. (EST) at the Federal Energy Regulatory Commission, 888 First Street, NE., Washington, DC 20426, in the Commission Meeting Room. All interested persons are invited to attend, and registration is not required.

The agenda for this conference, with a list of participating panelists, is attached. In order to allot sufficient time for questions and responses, each speaker will be provided with eight (8) minutes for prepared remarks. Due to the limitation of time, slides and graphic displays (e.g., PowerPoint® presentations) will not be permitted during the conference. Presenters who wish to distribute copies of their prepared remarks or handouts should bring 100 double-sided copies to the conference. Presenters who wish to include comments, presentations, or handouts in the record for this proceeding should file their comments with the Secretary of the Commission. Comments may either be filed on paper or electronically via the eFiling link on the Commission's Web site at http://www.ferc.gov. Following the conference, any interested person will be permitted to file written comments in the above docket on or before March 13, 2007.

Transcripts of the conference will be immediately available from Ace Reporting Company (202-347-3700 or 1-800-336-6646) for a fee. They will be available for the public on the Commission's eLibrary system seven calendar days after FERC receives the transcript.

A free webcast of this event will be available through http://www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit http://www.CapitolConnection.org or contact Danelle Perkowski or David Reininger at 703-993-3100.

Commission conferences are accessible under section 508 of the Rehabilitation Act of 1973. For accessibility accommodations please send an e-mail to accessibility@ferc.gov, or call toll free 1-866-208-3372 (voice) or 202-208-1659 (TTY), or send a FAX to 202-208-2106 with the required accommodations.

For more information about this conference, please contact: Moon Paul, Esq., Office of the General Counsel—Energy Markets, Federal Energy Regulatory Commission, 888 First Street, NE., Washington, DC 20426, (202) 502-6136, Moon.Paul@ferc.gov.

Magalie R. Salas,
Secretary.

[FR Doc. E7-2706 Filed 2-15-07; 8:45 am]

BILLING CODE 6717-01-P